DEPARTMENT OF ENERGY

Federal Energy Regulatory Commission

[Docket No. RP97-431-012]

Natural Gas Pipeline Company of America; Notice of Compliance Filing

April 4, 2001.

Take notice that on March 30, 2001, Natural Gas Pipeline Company of America (Natural) tendered for filing as part of its FERC Gas Tariff, Sixth Revised Volume No. 1, Substitute First Revised Sheet No. 224G.01 to be effective May 1, 2001.

Natural states that the purpose of this filing is to comply with the Commission's Order Denying Rehearing and Accepting Compliance Filing with Clarification issued March 16, 2001, in Docket No. RP97-431.

Natural requests waiver of the Commission's Regulations to the extend necessary to permit Substitute First Revised Sheet No. 224G.01 to become effective on May 1, 2001.

Natural states that copies of the filing are being mailed to all parties on the official service list in Docket No. RP97-431-000.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(1)(1)(iii) and the instructions on the Commission's web site at http://www.ferc.fed.us/efi/doorbell.htm.

Davis P. Boergers,
Secretary.

[FR Doc. 01-8787 Filed 4-9-01; 8:45 am]

BILLING CODE 6717-01-M